DEPARTMENT OF HEALTH AND HUMAN SERVICES

Health Resources and Services Administration

Solicitation of Nominations for Membership To Serve on the Advisory Committee on Training in Primary Care Medicine and Dentistry

AGENCY: Health Resources and Services Administration (HRSA), Department of Health and Human Services (HHS).

ACTION: Request for nominations.

SUMMARY: HRSA is seeking nominations of qualified candidates to consider for appointment as members of the Advisory Committee on Training in Primary Care Medicine and Dentistry (ACTPCMD or Committee).

DATES: Written nominations for membership on the ACTPCMD must be received on or before April 30, 2023.

ADDRESSES: Nomination packages must be electronically submitted to the Designated Federal Official, Shane Rogers, at email: BHWAdvisoryCouncil@hrsa.gov.

FOR FURTHER INFORMATION CONTACT: Shane Rogers, Designated Federal Official, Division of Medicine and Dentistry, Bureau of Health Workforce, email SRogers@hrsa.gov or call 301-443-5260. A copy of the current committee membership, charter, and reports can be obtained by accessing the ACTPCMD website at https://www.hrsa.gov/advisory-committees/primarycare-dentist/index.html.

SUPPLEMENTARY INFORMATION: The ACTPCMD advises and makes recommendations to the Secretary of HHS (Secretary) on policy, program development, and other matters of significance concerning the medicine and dentistry activities authorized under the Public Health Service (PHS) Act, as it existed upon the enactment of Section 749 of the PHS Act in 1998. The ACTPCMD also develops, publishes, and implements performance measures, develops and publishes guidelines for longitudinal evaluations, and recommends appropriation levels for programs under Part C of Title VII of the PHS Act. In addition, the Committee provides reports to the Secretary, the Senate Committee on Health, Education, Labor and Pensions, and the House of Representatives Committee on Energy and Commerce describing the activities of the Committee.

The ACTPCMD currently focuses on the following primary care professions and disciplines: Family Medicine, General Internal Medicine, General Pediatrics, Physician Assistants, General Dentistry, Pediatric Dentistry, Public Health Dentistry, and Dental Hygiene. The ACTPCMD meets not less than two times each calendar year.

Nominations: HRSA is requesting nominations for voting members to serve as Special Government Employees (SGEs) on ACTPCMD. The Secretary appoints ACTPCMD members with the expertise needed to fulfill the duties of the Committee. The membership requirements are set forth in section 749(b) of the PHS Act (42 U.S.C. 293l(b)). Nominees requested for this upcoming cycle include, but are not limited to, representatives from the primary care professions of family medicine, physician assistants, and general dentistry. Interested applicants may self-nominate or be nominated by another individual or organization.

Individuals selected for appointment to the Committee will be invited to serve for 3 years. Members of the ACTPCMD appointed as SGEs receive compensation for performance of their duties on the Committee and reimbursement for per diem and travel expenses incurred for attending ACTPCMD meetings.

The following information must be included in the package of materials submitted in order for an individual's nomination to be considered: (1) A letter of nomination from an employer, colleague, or a professional organization; (2) a current copy of the nominee's curriculum vitae; (3) a statement of interest from the nominee; and (4) a one-paragraph biographical sketch of the nominee. Nomination packages may be submitted directly by the individual being nominated or by the person/organization nominating them.

HHS endeavors to ensure that the membership of the ACTPCMD is fair and balanced in terms of points of view represented as well as between the health professions and a broad representation of geographic areas, including balance among urban and rural members, gender, and minorities, including racial and ethnic minority groups, as well as individuals with disabilities. At least 75 percent of the members of the Committee are health professionals. Appointments shall be made without discrimination of age, race, color, national origin, sex, disability, or religion. Members are appointed based on their competence, interest, and knowledge of the mission of the profession involved.

Individuals who are selected to be considered for appointment will be required to provide detailed information regarding their financial holdings, consultancies, and research grants or contracts. Disclosure of this information is required in order for HRSA ethics officials to determine whether there is a potential conflict of interest between the SGE's public duties as a member of ACTPCMD and their private interests, including an appearance of a loss of impartiality as defined by federal laws and regulations, and to identify any required remedial action needed to address the potential conflict.

Maria G. Button,
Director, Executive Secretariat.

[FR Doc. 2023-04448 Filed 3-3-23; 8:45 am]

BILLING CODE 4165-15-P